DEPARTMENT OF ENERGY

Federal Energy Regulatory Commission

[FFP Project 92, LLC; Project No. 14276-002—Kentucky]

Kentucky River Lock and Dam No. 11 Hydroelectric Project; Notice of Proposed Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Kentucky State Historic Preservation Officer (SHPO) and the Advisory Council on Historic Preservation (Advisory Council) pursuant to the Advisory Council's regulations, 36 CFR part 800, implementing section 106 of the National Historic Preservation Act, as amended, (54 U.S.C. 306108), to prepare a Programmatic Agreement for managing properties included in, or eligible for inclusion in, the National Register of Historic Places that could be affected by issuance of a license for the proposed Kentucky River Lock and Dam No. 11 Hydroelectric Project.

The Programmatic Agreement, when executed by the Commission, the Kentucky SHPO, and the Advisory Council, would satisfy the Commission's section 106 responsibilities for all individual undertakings carried out in accordance with the license until the license expires or is terminated (36 CFR 800.13(e)). The Commission's responsibilities pursuant to section 106 for the project would be fulfilled through the Programmatic Agreement, which the Commission staff proposes to draft in consultation with certain parties listed below.

FFP Project 92, LLC, as the applicant for Project No. 14276-002, is invited to participate in consultations to develop the Programmatic Agreement and to sign as a concurring party to the Programmatic Agreement. For purposes of commenting on the Programmatic Agreement, we propose to restrict the service list for Project No. 14276-002 as follows:

John Eddins, Advisory Council on Historic, Preservation, 401 F St. NW., Suite 308, Washington, DC 20001-2637.

Craig Potts, State Historic Preservation Officer, Kentucky Heritage Council, 300 Washington St., Frankfurt, KY 40601.

Kary Stackelbeck, Manager, Site Protection Program, Kentucky Heritage Council, 300 Washington St., Frankfurt, KY 40601.

Jennifer Ryall, Environmental Review Coordinator, Kentucky Heritage Council, 300 Washington St., Frankfurt, KY 40601.

Jerry Graves, Executive Director, Kentucky River Authority, 627 Wilkinson Blvd., Frankfort, KY 40601.

David Hamilton, Environmental Engineer, Kentucky River Authority, 627 Wilkinson Blvd., Frankfort, KY 40601.

Lisa C. Baker, Acting THPO, United Keetoowah Band of Cherokee, Indians in Oklahoma, P.O. Box 746, Tahlequah, OK 74465.

Ramya Swaminathan or Representative, Rye Development acting as Agent for: FFP Project 92, LLC, 745 Atlantic Avenue, 8th Floor, Boston, MA 02111.

Kellie Doherty, Rye Development acting as Agent for: FFP Project 92, LLC, 745 Atlantic Avenue, 8th Floor, Boston, MA 02111.

Patricia Stallings, Senior Historian/Program Manager, Brockington and Associates, Inc., 3850 Holcomb Bridge Road, Suite 105, Norcross, GA 30092.

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

Any such motions may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426. Please put the project number (P-14276-002) on the first page of the filing.

If no such motions are filed, the restricted service list will be effective at the end of the 15 day period. Otherwise, a further notice will be issued ruling on the motion.

Dated: September 30, 2015.
Kimberly D. Bose,
Secretary.

[FR Doc. 2015-25385 Filed 10-5-15; 8:45 am]

BILLING CODE 6717-01-P